NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 10, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Cooperative State Research, Education, and Extension Service (N1-540-07-6, 18 items, 14 temporary items). Records of the Office of Communications, including FOIA coordination records, working files, drafts, routine or internal photographs and media relations records, and web site content, management, and technical records. Proposed for permanent retention are recordkeeping copies of significant, mission-related publications, photographs, and films. This schedule authorizes the agency to apply the proposed disposition instructions to any recordkeeping medium.

2. Department of Energy, Bonneville Power Administration (N1-305-07-1, 94 items, 82 temporary items). Comprehensive agency-wide schedule covering the records of 21 agency functions, including power generation; power transmission; power sales and marketing; transmission load; agency management and policy development; law and litigation; human resources; training; procurement, billing, budget, and accounting; property asset management; facilities, equipment, and vehicles; environmental compliance; energy conservation; safety and risk management; security; document management and workflow; news releases and publications; digital systems maintenance; geographic information systems; computer assisted design; internet and intranet services; weather and stream-flow; and reference. Proposed for permanent retention are recordkeeping copies of policy and procedure decisions for new and advanced technologies and methodologies, environmental impact statements and supporting documentation, Office of Management and Budget and congressional budget requests with supporting documentation, agency organization files, significant litigation case files, wildlife agreements and mitigation plans that establish policy precedents, strategic infrastructure policy development files, significant environmental compliance documentation, policy and procedures governing the sale and conservation of energy that apply new and advanced technologies, publications, geographic information system data layers and metadata for maps, and computer assisted design drawings for mission-related equipment and structures. This schedule authorizes the agency to apply the proposed disposition instructions to any recordkeeping medium, except for certain geographic information system and computer assisted design records.

3. Department of Energy, Office of Scientific and Technical Information (N1-434-06-1, 4 items, 2 temporary items). Records relating to agency final reports of scientific and technical projects. Included are paper and microform copies of final reports. Proposed for permanent retention are electronic copies of final reports and a cumulative index.

4. Department of Health and Human Services, Food and Drug Administration (N1-88-04-4, 8 items, 6 temporary items). Public calendars, employee newsletters, publication approvals, materials used to respond to public inquiries, and annual FOIA Reports. Proposed for permanent retention are recordkeeping copies of press releases and publications. This schedule authorizes the agency to apply the proposed disposition instructions to any recordkeeping medium.

5. Department of Homeland Security, Science and Technology Directorate (N1-563-07-18, 1 item, 1 temporary item). Master file of an electronic information system used to assess the status of coordination and cooperation between emergency response agencies at the local, tribal, state and federal level.

6. Department of Homeland Security, U.S. Customs and Border Protection (N1-568-07-1, 1 item, 1 temporary item). Master file for an electronic information system used to track passengers departing for and arriving from the European Union.

7. Department of Justice, Bureau of Alcohol, Tobacco, Firearms, and Explosives (N1-436-07-6, 2 items, 2 temporary items). Master file and outputs of the Online LEAD System which makes available to law enforcement agencies a copy of Firearms Tracing System data, which was previously approved as permanent.

8. Department of Justice, Federal Bureau of Investigation (N1-65-07-21, 12 items, 12 temporary items). Records of the Counterterrorism Division including inputs, master files, system documentation and backups associated with an electronic information system used to collect and disseminate information about terrorist related threats and suspicious activities. Also included are shift transition and security audit logs, briefing books, and summaries. This schedule authorizes the agency to apply the proposed disposition instructions to any recordkeeping medium.

9. Department of State, Overseas Buildings Operations (N1-59-07-8, 4 items, 4 temporary items.). Records documenting technical aspects of construction progress for the new U.S. embassy compound in Baghdad, Iraq. Records include digital images and hard copy printouts, weekly construction status reports, and quality assurance reports.

10. Department of State, Bureau of Population, Refugees, and Migration (N1-59-08-3, 4 items, 3 temporary items). Proposal process files and Worldwide Refugee Admissions Processing System (WRAPS) master file and outputs accumulated by the Office of Refugee Admission. Proposed for permanent retention are recordkeeping copies of voluntary agency and affiliate monitoring reports.

11. Department of State, All Foreign Service Posts (N1-84-08-2, 9 items, 9 temporary items). Refugee coordinator files, fiscal records, correspondence with voluntary agencies, voluntary agency employee case files, and refugee case files.

12. Department of the Treasury, Internal Revenue Service (N1-58-08-7, 1 item, 1 temporary item). Revenue Procedure 92-29 case project files and supporting documents relating to tax on common improvements to real estate.

13. Department of the Treasury, Office of Thrift Supervision (N1-483-08-1, 48 items, 48 temporary items). This schedule authorizes the agency to apply the existing disposition instructions to records series regardless of recordkeeping medium. The records include correspondence files, congressional requests and response files, disaster recovery files, subject files, chronological files, signature files and report files. Paper recordkeeping copies of these files were previously approved for disposal.

14. Environmental Protection Agency, Headquarters (N1-412-07-26, 1 item, 1 temporary item). This schedule authorizes the agency to apply existing disposition instructions to records regardless of the recordkeeping medium. The records consist of certification statements and correspondence from importers of chemical substances or mixtures documenting receipt of shipment as well as certifying compliance with provisions of the Toxic Substances Control Act. Paper recordkeeping copies of these files were previously approved for disposal.

15. Environmental Protection Agency, Regional Offices (N1-412-07-32, 1 item, 1 temporary item). This schedule authorizes the agency to apply existing disposition instructions to records regardless of the recordkeeping medium. The records consist of regional toxic substance files related to monitoring and compliance activities under the Toxic Substances Control Act. Paper recordkeeping copies of these files were previously approved for disposal.

16. Social Security Administration, Office of Disability and Income Security Programs (N1-47-08-1, 11 items, 11 temporary items). Records related to eligibility for new or continuing benefits under Title XVIII of the Social Security Act. The records in this schedule were previously approved for disposal; this schedule revises the description and/or disposition for certain of these records. This schedule authorizes the agency to apply the proposed disposition instructions to any recordkeeping medium.

Dated: February 4, 2008.
Michael J. Kurtz,
Assistant Archivist for Records Services—Washington, DC.

[FR Doc. E8-2447 Filed 2-7-08; 8:45 am]

BILLING CODE 7515-01-P